DEPARTMENT OF THE INTERIOR

Fish and Wildlife Service

Aquatic Nuisance Species Task Force Great Lakes Panel on Aquatic Nuisance Species Meeting

AGENCY: Fish and Wildlife Service, Interior.

ACTION: Notice of meeting.

SUMMARY: This notice announces a meeting of the Aquatic Nuisance Species (ANS) Task Force Great Lakes Panel on Aquatic Nuisance Species. The meeting is open to the public. The meeting topics are identified in the SUPPLEMENTARY INFORMATION section.

DATES: The Great Lakes Panel on Aquatic Nuisance Species will meet from 9 a.m. to 5 p.m. on Thursday, April 14, 2005 and from 8:30 a.m. to 2 p.m. on Friday, April 15, 2005. Minutes of the meeting will be available for public inspection during regular business hours, Monday through Friday.

ADDRESSES: The Great Lakes Panel on Aquatic Nuisance Species meeting will be held at the Courtyard by Marriott, 3205 Boardwalk, Ann Arbor, Michigan 48108. Phone (734) 995-5900. Minutes of the meeting will be maintained in the office of Chief, Division of Environmental Quality, U.S. Fish and Wildlife Service, Suite 322, 4401 North Fairfax Drive, Arlington, Virginia 22203-1622.

FOR FURTHER INFORMATION CONTACT: Kathe Glassner-Shwayder, Great Lakes Panel on Aquatic Nuisance Species member and Senior Project Manager, Great Lakes Commission at (734) 971-9135 shwayder@glc.org or Pam Meacham, Aquatic Nuisance Species Task Force, at 703-358-1796.

SUPPLEMENTARY INFORMATION: Pursuant to section 10(a)(2) of the Federal Advisory Committee Act (5 U.S.C. App. I), this notice announces meetings of the Aquatic Nuisance Species Task Force Great Lakes Panel on Aquatic Nuisance Species. The ANS Task Force was established by the Nonindigenous Aquatic Nuisance Prevention and Control Act of 1990. The Great Lakes Panel on Aquatic Nuisance Species was established by the ANS Task Force in 1991. The Great Lakes Panel on Aquatic Nuisance Species, comprised of representatives from Federal, State, local agencies and from private environmental and commercial interests, performs the following activities:

a. Identifies priorities for activities in the Great Lakes,

b. Develops and submits recommendations to the national Aquatic Nuisance Species Task Force,

c. Coordinates aquatic nuisance species program activities in the Great Lakes,

d. Advises public and private interests on control efforts, and

e. Submits an annual report to the Aquatic Nuisance Species Task Force.

The purpose of the Panel is to advise and make recommendations to the Aquatic Nuisance Species Task Force on issues relating to the Great Lakes region of the United States that includes eight Great Lakes States: Illinois, Indiana, Michigan, Minnesota, New York, Pennsylvania, Ohio and Wisconsin. The Great Lakes Panel on Aquatic Nuisance Species will discuss several topics at this meeting including: progress reports on the Aquatic Invasive Species action plan; the Panel's draft operational guidance; the Great lakes Regional Collaboration and related significance for Aquatic Invasive Species work in the region, including for the Great Lakes Panel; committee meetings (Research, Information/Education, and Legislation/Policy); progress reports from Great Lakes panel projects and Great Lakes Commission projects (ANS-GIS, Early Detection, Rapid Response); recommendations for the ANS Task Force; and updates from Panel member organizations and states.

Dated: February 28, 2005.
Mamie A. Parker,
Co-Chair, Aquatic Nuisance Species Task Force, Assistant Director—Fisheries & Habitat Conservation.

[FR Doc. 05-4699 Filed 3-9-05; 8:45 am]

BILLING CODE 4310-55-P